SECURITIES AND EXCHANGE COMMISSION

[Release No. 34-48744; File Nos. SR-NSCC-2003-19 and SR-DTC-2003-11]

Self-Regulatory Organizations; National Securities Clearing Corporation; The Depository Trust Company; Order Granting Accelerated Approval of a Proposed Rule Change Relating to the Consolidation of Settlement Processing Operations and to the Use of the Federal Reserve Banks' Net Settlement Service

November 4, 2003.

I. Introduction

On September 26, 2003, the National Securities Clearing Corporation (“NSCC”) and The Depository Trust Company (“DTC”) filed with the Securities and Exchange Commission (“Commission”) proposed rule change File No. SR-NSCC-2003-19 and proposed rule change File No. SR-DTC-2003-11 pursuant to Section 19(b)(1) of the Securities Exchange Act of 1934 (“Act”).¹ Notice of the proposal was published in the Federal Register on October 17, 2003.² No comment letters were received. For the reasons discussed below, the Commission is granting accelerated approval of the proposed rule change.

¹ 15 U.S.C. 78s(b)(1).

² Securities Exchange Act Release No. 48614 (October 9, 2003), 68 FR 59834.

II. Description

The NSCC and DTC proposed rule changes propose that NSCC and DTC consolidate their settlement processing operations. The NSCC proposed rule change proposes that NSCC require all its settling banks to use the Federal Reserve Banks' (“FRBs”) Net Settlement Service (“NSS”) to satisfy their end-of-day settlement obligations.³

³ On September 2, 2003, DTC implemented the requirement that all DTC settling banks use NSS. Securities Exchange Act Release No. 48089 (June 25, 2003), 68 FR 40314 (July 7, 2003) [File No. SR-DTC-2002-06].

1. Consolidated Settlement Processing Operation

Today, DTC and NSCC settlements are run on two separate systems each of which is fed throughout the day with debit and credit data generated by participant/member activities. At the end of the processing day, the data is summarized and reported by product category (e.g., in the case of NSCC, continuous net settlement, mutual funds, envelope services, etc. and in the case of DTC, delivery orders, stock loans, dividends, redemptions, etc.) through the Participant Terminal System (“PTS”) on separate DTC and NSCC screens. The data is netted separately at DTC and at NSCC to produce an aggregate debit or credit at each clearing agency.

Following the determination of final net numbers for each participant/member for each clearing agency, a participant/member's credit balance at one clearing agency is netted against any debit balance at the other (“cross-endorsement”). The settling banks subsequently authorize settlement for their customers in an “acknowledgement” process and then transmit or receive funds to or from DTC's account and to or from NSCC's subaccount at the Federal Reserve Bank of New York (“FRBNY”).

In order to promote operating efficiencies, improve risk management, and lower transaction processing costs, DTC and NSCC are seeking to introduce a consolidated settlement processing operation. A consolidated settlement processing operation will provide participants/members with consolidated NSCC and DTC settlement reporting, a single point of access for both NSCC and DTC settlement information, and reduced settlement risk. This consolidation is intended to be operational only. It is not intended to affect the legal relationship that participants/members and their settling banks have with NSCC or DTC.

As part of the new consolidated settlement processing operation, DTC and NSCC participants/members and their settling banks will be provided with a single set of enhanced PTS functions. Each participant/member will be able to view its DTC and NSCC settlement activity and will be provided a consolidated end-of-day netted DTC/NSCC settlement obligation. A participant/member's debits and credits at DTC and at NSCC will be separately summarized in one consolidated activity statement which will show the final DTC and NSCC balances and the netted amount for each participant/member.

2. Net Settlement Service

To reduce settlement risk and to permit settling banks to settle their net-net debits at NSCC and at DTC with a single payment, NSCC is amending its procedures to require that NSCC settling banks satisfy their daily net-net debit balances at NSCC through the use of NSS. This requirement is consistent with DTC's requirement that its settling banks utilize NSS.⁴

⁴ Supra note 3.

As more fully described below, NSS will permit DTC, as NSCC's settlement agent, to submit instructions to have the FRB accounts of NSCC settling banks charged for their NSCC net-net debit balance. By centralizing DTC and NSCC's settlement processing and by adopting NSS as the payment mechanism, each settling bank's balance at NSCC (whether a net-net debit or a net-net credit) will also be aggregated or netted with its settlement balance at DTC resulting in only a single debit or single credit having to be made to the settling bank's FRB account. Utilization of NSS by NSCC members and their settling banks will eliminate the need for a settling bank to initiate a wire transfer in satisfaction of a net-net debit balance. This should reduce the risk a settling bank would be unable to meet its settlement obligations because of operational problems and should reduce the occurrences of late payment fees due to delays in wiring settlement funds.⁵

⁵ Should NSS not be available for any reason, then settling banks are obligated to settle their NSCC and DTC obligations by wire transfer.

As part of requiring the use of NSS, NSCC is making certain technical corrections to assure that defined terms and other provisions are used consistently. Accordingly, NSCC's Rule 1 (Definitions and Descriptions) is being amended to (1) include a new definition of “settlement agent” as DTC will act as NSCC's settlement agent in collecting and paying out settlement monies and (2) set forth a definition of “net credit balance” which is currently used in Rule 12 (Settlement) and elsewhere in the Rules.

NSCC Rule 12 and Rule 55 (Settling Banks) are being amended to make clear that in those instances where NSCC permits a “settling member,” “insurance carrier member,” or “fund member” to settle other than through a settling bank, it will be deemed to have failed to settle if it fails to pay its “net debit balance.”⁶ In addition, rule language is being modified to make clear that settlement of monies will be effected in the manner provided for in NSCC's Procedures.

⁶ “Net debit balance” as used with respect to a member, insurance carrier member, or fund member means the amount by which the member's, insurance carrier member's, or fund member's gross debit balance for a business day exceeds its gross credit balance on that business day.

NSCC Procedure VIII (Money Settlement Service) is being amended to reflect the requirement that settling banks use NSS and to provide the procedures whereby settling banks that act as such for both NSCC and DTC (“common settling banks”) will have their settlement balances at both clearing agencies aggregated or netted into a single payment or credit amount.

Prior to using NSS, settling banks will be required to sign with an FRB a “Settler Agreement” which incorporates a requirement that the settling bank agrees to the terms of the FRB's Operating Circular No. 12. Under Section 6.4 of Operating Circular No. 12, the settlement agent (i.e., DTC acts as settlement agent for NSCC) has certain responsibilities regarding allocation among settling banks of a claim for indemnity by the FRB. The allocation of any such claim among NSCC's members would be conducted in a manner as is described in NSCC Procedure VIII, Section 4(iv). The signed Settler Agreement must be on the settling bank's letterhead, signed by an authorized signer recognized by the FRB, and submitted to the FRB through DTC as NSCC's settlement agent. Settling banks that also act as settling banks for DTC participants previously had to sign a Settler Agreement with the FRB designating DTC as their NSS settlement agent. Accordingly, these settling banks will not be required to sign new Settler Agreements to cover NSCC's NSS settlement. Instead, as provided in NSCC Procedure VIII, the Settler Agreements they provide to DTC for delivery to the FRB designating DTC as their NSS settlement agent will be deemed to include the settling bank's NSCC settlement obligations as well as its DTC settlement obligations.

As is currently required, each settling bank will be required to acknowledge its NSCC net-net balance at the end of the day. However, any settling bank that is an NSCC Member and settles solely for its own account may elect to not acknowledge its net-net settlement balance at the end of the day.⁷ This option will not be made available to settling banks that settle for others because the acknowledgement process includes the option to refuse to pay for a participant for whom the settling bank provides settlement services. Unless a settling bank has elected not to acknowledge its net-net settlement balance as provided above, DTC will not send a settling bank's net-net debit balance to a FRB for collection until the settling bank has acknowledged its balance.

⁷ Settling banks electing not to acknowledge their settlement balance will be required to sign an Acknowledgement Option Form. A common settling bank may not elect to opt out of acknowledging its balances unless it settles solely for its own account at both DTC and NSCC in which case that election will cover both the bank's NSCC and DTC net settlement balances.

As NSCC's settlement agent, DTC will send a “preadvice” to each settling bank, notifying the settling bank that DTC is about to send its NSS transmission to the FRB. If a settling bank does not have sufficient funds in its FRB account to enable DTC, as settlement agent, to debit the full amount of its settlement balance or should NSS not be available to a settling bank for any reason, the settling bank will be obligated to wire all such amounts to DTC prior to the designated cut-off time.⁸

A new item 4 in NSCC Procedure VIII sets forth the netting and payment obligations among common settling banks, NSCC, and DTC. For each common settling bank, DTC, as settlement agent, will aggregate or net the net-net debit or net-net credit as applicable due by or due to such bank from or to NSCC and DTC. If the common settling bank owes a settlement debit to both clearing agencies, DTC will debit the FRB account the sum of the debit amounts. If the bank is owed a settlement credit from both, DTC will wire the bank the sum of the credit amounts.

⁸ If a settling bank is experiencing extenuating circumstances and as a result needs to opt out of NSS for one business day and send its wire directly to DTC's FRBNY account for its debit balance, that settling bank must notify NSCC/DTC prior to acknowledging its settlement balance.

Where the common settling bank owes a debit to one clearing agency and is owed a credit from the other, the common settling bank will be obligated to pay the net amount of that sum (if a net debit) or be entitled to receive the net amount (if a net credit). The clearing agency which prenet owes the settlement credit to the common settling bank will pay the net credit difference to the other clearing agency if the other clearing agency has a prenet debit.⁹ NSCC will implement its failure to settle procedures if any common settling bank that had a net-net debit to NSCC before aggregation or netting of such amounts with the common settling bank's DTC settlement balance fails to pay its aggregate NSCC/DTC net debit amount, referred to as the “consolidated settlement debit amount,” in full by the time specified in NSCC and DTC's procedures.

⁹ For example, if NSCC owes the common settling bank $5 million, and DTC is owed $2 million by the common settling bank, NSCC will pay DTC $3 million dollars which DTC will pay to the common settling bank using NSS.

III. Discussion

Section 19(b)(2)(B) of the Act directs the Commission to approve a proposed rule change of a self-regulatory organization if it finds that such proposed rule change is consistent with the requirements of the Act and the rules and regulations thereunder applicable to such organization. Section 17A(b)(3)(F) of the Act requires that the rules of a clearing agency be designed to assure the safeguarding of securities and funds which are in the custody or control of the clearing agency or for which it is responsible.¹⁰ Because the proposed rule changes reduce the risk that a clearing bank will be late in fulfilling its settlement obligation, the proposed rule changes should better enable DTC and NSCC to fulfill their safeguarding obligations under Section 17A(b)(3)(F).

¹⁰ 15 U.S.C. 78q-1(b)(3)(F).

NSCC and DTC have requested that the Commission approve the proposed rule changes prior to the thirtieth day after the date of publication of notice of the filing. The Commission finds good cause for approving the proposed rule changes prior to the thirtieth day after the date of publication of the notice of the filing because accelerated approval will give DTC and NSCC adequate time to notify their participants/members and to provide their participants/members with sufficient time to prepare for implementation of the proposed rule changes before year end.

IV. Conclusion

On the basis of the foregoing, the Commission finds that the proposed rule changes are consistent with the requirements of the Act and in particular Section 17A of the Act and the rules and regulations thereunder.

It is therefore ordered, pursuant to section 19(b)(2) of the Act, that the proposed rule changes (File Nos. SR-NSCC-2003-19 and SR-DTC-2003-11) be and hereby are approved on an accelerated basis.

For the Commission by the Division of Market Regulation, pursuant to delegated authority.¹¹
¹¹ 17 CFR 200.30-3(a)(12).
Jill M. Peterson,
Assistant Secretary.

[FR Doc. 03-28148 Filed 11-7-03; 8:45 am]

BILLING CODE 8010-01-P